DEPARTMENT OF TRANSPORTATION

Maritime Administration

[Docket No. MARAD 2011 0008]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before April 4, 2011.

FOR FURTHER INFORMATION CONTACT: Richard Lolich, Maritime Administration, 1200 New Jersey Avenue, SE., Washington, DC 20590. Telephone: 202-366-0704 or e-mail: richard.lolich@dot.gov. Copies of this collection also can be obtained from that office.

SUPPLEMENTARY INFORMATION: Title of Collection: MARAD's Marine Transportation Economic Impact Model Data Needs.

Type of Request: Extension of currently approved information collection.

OMB Control Number: 2133-0538.

Form Numbers: MA-1051 and MA-1052.

Expiration Date of Approval: Three years from date of approval by the Office of Management and Budget.

Summary of Collection of Information: MARAD's Marine Transportation Economic Impact Model Data Needs Survey is designed to explore and quantify the economic contribution of the nation's marine industry to our national economy (output, employment and tax receipts) and to provide the underpinnings to calculate modal impacts on surface transportation should marine transportation become unavailable in any given region to shippers.

Need and Use of the Information: This collection of information will be used to obtain more detailed information on the freight-based transportation sectors than currently available from other sources; obtain information on the change in costs (operational and handling costs) since 1999 of terminal operators and ocean-going vessels.

Description of Respondents: U.S. vessels and marine terminal operating companies.

Annual Responses: 90 responses.

Annual Burden: 450 hours.

Comments: Comments should refer to the docket number that appears at the top of this document. Written comments may be submitted to the Docket Clerk, U.S. DOT Dockets, Room W12-140, 1200 New Jersey Avenue, SE., Washington, DC 20590. Comments also may be submitted by electronic means via the Internet at http://www.regulations.gov/search/index.jsp. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov/search/index.jsp.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov/search/index.jsp.

By order of the Maritime Administrator.
Dated: January 24, 2011.
Christine Gurland,
Secretary, Maritime Administration.

[FR Doc. 2011-2416 Filed 2-2-11; 8:45 am]

BILLING CODE 4910-81-P